DEPARTMENT OF THE INTERIOR

National Park Service

[N6706; NPS-WASO-NAGPRA-NPS0041435; PPWOCRADN0-PCU00RP14.R50000]

Notice of Intended Repatriation: Denver Museum of Nature and Science, Denver, CO

AGENCY: National Park Service, Interior.

ACTION: Notice.

SUMMARY: In accordance with the Native American Graves Protection and Repatriation Act (NAGPRA), the Denver Museum of Nature and Science (DMNS) intends to repatriate certain cultural items that meet the definition of sacred objects and that have a cultural affiliation with the Indian Tribes or Native Hawaiian organizations in this notice.

DATES: Repatriation of the cultural items in this notice may occur on or after January 16, 2026.

ADDRESSES: Send additional, written requests for repatriation of the cultural items in this notice to Michele Koons, Denver Museum of Nature & Science, 2001 Colorado Blvd., Denver, CO 80205, email Michele.Koons@dmns.org.

SUPPLEMENTARY INFORMATION: This notice is published as part of the National Park Service's administrative responsibilities under NAGPRA. The determinations in this notice are the sole responsibility of the Denver Museum of Nature and Science, and additional information on the determinations in this notice, including the results of consultation, can be found in the summary or related records. The National Park Service is not responsible for the determinations in this notice.

Abstract of Information Available

A total of eight cultural items have been requested for repatriation. The eight scared objects are one medicine bundle with herbs, one medicine tube, two medicine roots, and four prayer reeds. The eight sacred objects are: AC. 8234, a medicine bundle, collected by Howard B. Roloff in 1965 from an unknown medicine man at Brighton Reservation. The bundle is made of wool and cloth. The medicine bundle contains seven different herbs used in the “Black Drought”[sic] for purification rites in the Green Corn Dance. The same packet of herbs is usually used twice or even four times, and only at the time of the Green Corn Dance. AC.8235, a medicine tube, collected by Howard B. Roloff in 1965 from Ada Tommie at the Hollywood Reservation, Florida. The medicine tube is made of reeds. The bundle was donated to DMNS by Mary Crane on 27 May 1983. AC.8236, medicinal root, collected by Howard B. Roloff in 1965 from the Seminole in Florida. The root was donated to DMNS by Mary Crane on 27 May 1983. The root was used to treat wounds and carbuncles by an unknow medicine man from Immokalee, Florida. AC.8237, medicinal roots, collected by Howard B. Roloff in 1965 from a medicine woman, Ada Tommie, from the Hollywood Reservation. The roots are tied with blue cloth and are used to treat high blood pressure. The same roots are also found in medicine bundles. The roots were donated to DMNS by Mary Crane on 27 May 1983. AC.8396A-D, four prayer reeds, collected by Howard B. Roloff from Josie Billie in 1966. Bamboo reeds bored out and tied with red cloth in three places made by Josie Billie, the biggest medicine man at Big Cypress. AC. 8234, AC.8235. AC.8236, AC. 8237, and AC.8396A-D were formerly in the “Seminole Section” of DMNS North American Indigenous Cultures Hall, which has been closed to the public since June 2023.

Determinations

The Denver Museum of Nature and Science has determined that:

• The eight sacred objects described in this notice are specific ceremonial objects needed by a traditional Native American religious leader for present-day adherents to practice traditional Native American religion, according to the Native American traditional knowledge of a lineal descendant, Indian Tribe, or Native Hawaiian organization.

• There is a reasonable connection between the cultural items described in this notice and the Seminole Tribe of Florida and The Seminole Nation of Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 16, 2026. If competing requests for repatriation are received, the Denver Museum of Nature and Science must determine the most appropriate requestor prior to repatriation. Requests for joint repatriation of the cultural items are considered a single request and not competing requests. The Denver Museum of Nature and Science is responsible for sending a copy of this notice to the Indian Tribes and Native Hawaiian organizations identified in this notice and to any other consulting parties.

Authority: Native American Graves Protection and Repatriation Act, 25 U.S.C. 3004 and the implementing regulations, 43 CFR 10.9.

Dated: November 24, 2025.
Melanie O'Brien,
Manager, National NAGPRA Program.

[FR Doc. 2025-23049 Filed 12-16-25; 8:45 am]

BILLING CODE 4312-52-P